Title 3—

The President

Notice of December 28, 2012

Waiver From Rescission of Unobligated Funds Under the American Recovery and Reinvestment Act of 2009

Consistent with the authority provided to me under the American Recovery and Reinvestment Act of 2009 (Public Law 111-5), as amended by section 1306 of the Dodd-Frank Wall Street Reform and Consumer Protection Act (Public Law 111-203), I have determined that it is not in the best interest of the Nation to rescind after December 31, 2012, the unobligated amounts made available in Division A of the American Recovery and Reinvestment Act with respect to the accounts with the following Treasury Account Fund Symbol codes and names, not to exceed the amounts stated:

Department of Defense: 97-0501—Military Construction, Defense-wide, $104 million;

Department of Energy: 89-0209—Title 17 Innovative Technology Loan Guarantee Program, $96 million;

Social Security Administration: 28X8704—Limitation on Administrative Expenses, $148 million; and

Small Business Administration: 73-4268—Surety Bond Guarantees Revolving Fund, $15 million.

My determination is based on the following consideration:

The retention of these unobligated balances will allow the executive agencies to continue to execute projects vital to the national interest in a fiscally responsible manner.

Therefore, in accordance with section 1306 of Public Law 111-203, I am waiving the requirements for repayment for the stated amounts of unobligated funds made available in the American Recovery and Reinvestment Act with respect to the accounts described above.

In accordance with section 1603(b) of the American Recovery and Reinvestment Act of 2009, as added by section 1306 of Public Law 111-203, all amounts that are rescinded pursuant to section 1603(b) shall be returned to the General Fund of the Treasury where such amounts shall be dedicated for the sole purpose of deficit reduction and prohibited from use as an offset for other spending increases or revenue reductions.

This notice shall be published in the Federal Register.

THE WHITE HOUSE,

Washington, December 28, 2012.

[FR Doc. 2013-00042

Filed 1-3-13; 8:45 am]

Billing code 3295-F3